DEPARTMENT OF HEALTH AND HUMAN SERVICES

Centers for Disease Control and Prevention

[30Day-15-15UX]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Surveillance Data Collections for Ebola Virus Disease in West Africa—New—National Center for Emerging and Zoonotic Infectious Diseases (NCEZID), Centers for Disease Control and Prevention (CDC).

Background and Brief Description

The outbreak of Ebola virus disease (EVD) in West Africa began March 10, 2014. The initial cases were from southern Guinea, near its rural border with Liberia and Sierra Leone. Highly mobile populations contributed to increasing waves of person-to-person transmission of EVD that occurred in multiple countries in West Africa. The Centers for Disease Control and Prevention (CDC) Emergency Operations Center (EOC) was activated on July 9, 2014, to help coordinate technical assistance and control activities and to deploy teams of public health experts to the affected countries. CDC established key public health surveillance and medical treatment objectives in collaboration with West African Ministries of Health, the World Health Organization (WHO), and other key partners.

CDC information collections for EVD case and contact surveillance were previously approved under “2014 Emergency Response to Ebola in West Africa” (OMB Control No. 0920-1033, expiration date 4/30/2015). The CDC used such expedited and emergency Paperwork Reduction Act (PRA) clearance procedures to initiate urgently needed information collections in affected countries. These procedures allowed the agency to accomplish its mission on many fronts to quickly prevent public harm, illness, and death from the uncontrolled spread of EVD. As new knowledge about potential routes of Ebola transmission was encountered during case surveillance activities, forms for sexual transmission were developed and are included as part of this information collection effort.

The main goal of this information collection request (ICR) is to receive and maintain Paperwork Reduction Act (PRA) clearance in advance of any Ebola outbreak in West Africa. The CDC seeks to gain a three-year approval to continue the current, and to initiate any new Ebola surveillance data collections without delay. Because it is impossible to predict when and where a new Ebola outbreak may occur, we estimate time burden based on population estimates of 21 countries in the West Africa region. Therefore, CDC provides data collection forms that will be readily available in English, French, Portuguese, and Arabic translations.

There are no costs to the respondents other than their time. The total annualized time burden requested is 428,750 hours.

Estimated Annualized Burden Hours
Type of respondent | Form name | Number of respondents | Number of responses per respondent | Average burden per response (in hours)
General Public | Viral Hemorrhagic Fever Case Investigation Short Form (English) | 15,476 | 1 | 10/60
General Public | Viral Hemorrhagic Fever Case Investigation Short Form (French) | 10,122 | 1 | 10/60
General Public | Viral Hemorrhagic Fever Case Investigation Short Form (Portuguese) | 176 | 1 | 10/60
General Public | Viral Hemorrhagic Fever Case Investigation Short Form (Arabic) | 1,226 | 1 | 10/60
General Public | Viral Hemorrhagic Fever Case Investigation Form (English) | 1,720 | 1 | 20/60
General Public | Viral Hemorrhagic Fever Case Investigation Form (French) | 1,125 | 1 | 20/60
General Public | Viral Hemorrhagic Fever Case Investigation Form (Portuguese) | 19 | 1 | 20/60
General Public | Viral Hemorrhagic Fever Case Investigation Form (Arabic) | 136 | 1 | 20/60
General Public | Viral Hemorrhagic Fever Contact Listing Form (English) | 171,960 | 1 | 15/60
General Public | Viral Hemorrhagic Fever Contact Listing Form (French) | 112,470 | 1 | 15/60
General Public | Viral Hemorrhagic Fever Contact Listing Form (Portuguese) | 1,950 | 1 | 15/60
General Public | Viral Hemorrhagic Fever Contact Listing Form (Arabic) | 13,620 | 1 | 15/60
General Public | Viral Hemorrhagic Fever Contact Tracing Follow-Up Form (English) | 171,960 | 1 | 63/60
General Public | Viral Hemorrhagic Fever Contact Tracing Follow-Up Form (French) | 112,470 | 1 | 63/60
General Public | Viral Hemorrhagic Fever Contact Tracing Follow-Up Form (Portuguese) | 1,950 | 1 | 63/60
General Public | Viral Hemorrhagic Fever Contact Tracing Follow-Up Form (Arabic) | 13,620 | 1 | 63/60
General Public | Ebola Virus Disease Case Contact Questionnaire (English) | 171,960 | 1 | 5/60
General Public | Ebola Virus Disease Case Contact Questionnaire (French) | 112,470 | 1 | 5/60
General Public | Ebola Virus Disease Case Contact Questionnaire (Portuguese) | 1,950 | 1 | 5/60
General Public | Ebola Virus Disease Case Contact Questionnaire (Arabic) | 13,620 | 1 | 5/60
General Public | Ebola Outbreak Response Sexual Transmission Adult Case Investigation Form (English) | 3,439 | 1 | 30/60
General Public | Ebola Outbreak Response Sexual Transmission Adult Case Investigation Form (French) | 2,249 | 1 | 30/60
General Public | Ebola Outbreak Response Sexual Transmission Adult Case Investigation Form (Portuguese) | 39 | 1 | 30/60
General Public | Ebola Outbreak Response Sexual Transmission Adult Case Investigation Form (Arabic) | 273 | 1 | 30/60
Healthcare Workers or Proxy | Healthcare Worker Ebola Virus Disease Exposure Report—West Africa (CDC-WHO) (English) | 2,455 | 1 | 30/60
Healthcare Workers or Proxy | Healthcare Worker Ebola Virus Disease Exposure Report—West Africa (CDC-WHO) (French) | 1,687 | 1 | 30/60
Healthcare Workers or Proxy | Healthcare Worker Ebola Virus Disease Exposure Report—West Africa (CDC-WHO) (Portuguese) | 29 | 1 | 30/60
Healthcare Workers or Proxy | Healthcare Worker Ebola Virus Disease Exposure Report—West Africa (CDC-WHO) (Arabic) | 204 | 1 | 30/60
Healthcare Workers or Proxy | Healthcare Worker Ebola Virus Investigation Questionnaire (Liberia) | 52 | 1 | 30/60
Healthcare Workers or Proxy | Healthcare Worker Ebola Virus Disease Exposure Report (Sierra Leone) | 73 | 1 | 30/60
Healthcare Workers or Proxy | Health Facility Assessment and Case Finding Survey (English) | 3,439 | 1 | 30/60
Healthcare Workers or Proxy | Health Facility Assessment and Case Finding Survey (French) | 2,249 | 1 | 30/60
Healthcare Workers or Proxy | Health Facility Assessment and Case Finding Survey (Portuguese) | 39 | 1 | 30/60
Healthcare Workers or Proxy | Health Facility Assessment and Case Finding Survey (Arabic) | 273 | 1 | 30/60

Leroy A. Richardson,
Chief, Information Collection Review Office, Office of Scientific Integrity, Office of the Associate Director for Science, Office of the Director, Centers for Disease Control and Prevention.

[FR Doc. 2015-15832 Filed 6-26-15; 8:45 am]

BILLING CODE 4163-18-P